DEPARTMENT OF ENERGY

Federal Energy Regulatory Commission

Combined Notice of Filings #1

Take notice that the Commission received the following exempt wholesale generator filings:

Docket Numbers: EG25-68-000.

Applicants: 59TC 8me LLC.

Description: 59TC 8me LLC submits Notice of Self-Certification of Exempt Wholesale Generator Status.

Filed Date: 12/23/24.

Accession Number: 20241223-5344.

Comment Date: 5 p.m. ET 1/13/25.

Take notice that the Commission received the following Complaints and Compliance filings in EL Dockets:

Docket Numbers: EL25-42-000.

Applicants: Midland Cogeneration Venture Limited Partnership.

Description: Midland Cogeneration Venture Limited Partnership submits request for renewal of a temporary waiver of the Commission's qualifying cogeneration facility heightened efficiency standard.

Filed Date: 12/17/24.

Accession Number: 20241217-5301.

Comment Date: 5 p.m. ET 1/7/25.

Take notice that the Commission received the following electric rate filings:

Docket Numbers: ER10-2178-045; ER10-2192-045; ER12-1223-024; ER12-1829-019; ER13-1536-029; ER16-2363-006.

Applicants: Bluestem Wind Energy, LLC, Exelon Generation Company, LLC, Shooting Star Wind Project, LLC, Wildcat Wind, LLC, Constellation Energy Commodities Group Maine, LLC, Constellation NewEnergy, Inc.

Description: Triennial Market Power Analysis for Southwest Power Pool Inc. Region of Constellation NewEnergy, Inc., et al.

Filed Date: 12/20/24.

Accession Number: 20241220-5524.

Comment Date: 5 p.m. ET 2/18/25.

Docket Numbers: ER10-3079-022.

Applicants: Tyr Energy LLC.

Description: Notice of Change in Status of Tyr Energy, LLC.

Filed Date: 12/20/24.

Accession Number: 20241220-5521.

Comment Date: 5 p.m. ET 1/10/25.

Docket Numbers: ER10-3079-023.

Applicants: Tyr Energy LLC.

Description: Triennial Market Power Analysis for Southwest Power Pool Inc. of Tyr Energy, LLC.

Filed Date: 12/20/24.

Accession Number: 20241220-5523.

Comment Date: 5 p.m. ET 2/18/25.

Docket Numbers: ER20-681-008.

Applicants: Tri-State Generation and Transmission Association, Inc.

Description: Refund Report: Supplemental Refund Report to be effective N/A.

Filed Date: 12/26/24.

Accession Number: 20241226-5000.

Comment Date: 5 p.m. ET 1/16/25.

Docket Numbers: ER21-1807-005.

Applicants: Hill Top Energy Center LLC.

Description: Compliance filing: Informational Filing Pursuant to Schedule 2 of the PJM OATT to be effective N/A.

Filed Date: 12/26/24.

Accession Number: 20241226-5371.

Comment Date: 5 p.m. ET 1/16/25.

Docket Numbers: ER25-734-001.

Applicants: Midcontinent Independent System Operator, Inc.

Description: Tariff Amendment: 2024-12-26_SA 4412 Entergy Louisiana-Entergy Louisiana Sub Original GIA (Nelson) to be effective 12/5/2024.

Filed Date: 12/26/24.

Accession Number: 20241226-5278.

Comment Date: 5 p.m. ET 1/16/25.

Docket Numbers: ER25-804-000.

Applicants: PJM Interconnection, L.L.C.

Description: § 205(d) Rate Filing: Amendment to ISA and ICSA, SA Nos. 6947 and 6948; Queue No. AD2-066 to be effective 8/21/2023.

Filed Date: 12/23/24.

Accession Number: 20241223-5321.

Comment Date: 5 p.m. ET 1/13/25.

Docket Numbers: ER25-805-000.

Applicants: PJM Interconnection, L.L.C.

Description: § 205(d) Rate Filing: Original NSA, Service Agreement No. 7462; AB2-136 to be effective 2/23/2025.

Filed Date: 12/26/24.

Accession Number: 20241226-5001.

Comment Date: 5 p.m. ET 1/16/25.

Docket Numbers: ER25-806-000.

Applicants: PJM Interconnection, L.L.C.

Description: Tariff Amendment: Notice of Cancellation—SA Nos. 2776, 2777, 2778 and 2779 to be effective 11/25/2024.

Filed Date: 12/26/24.

Accession Number: 20241226-5003.

Comment Date: 5 p.m. ET 1/16/25.

Docket Numbers: ER25-807-000.

Applicants: PJM Interconnection, L.L.C.

Description: § 205(d) Rate Filing: Revisions to PJM Rate Schedule 46—Market Monitor Services Agreement to be effective 1/1/2025.

Filed Date: 12/26/24.

Accession Number: 20241226-5007.

Comment Date: 5 p.m. ET 1/16/25.

Docket Numbers: ER25-808-000.

Applicants: PJM Interconnection, L.L.C.

Description: § 205(d) Rate Filing: Original GIA Service Agreement No. 7441; Project Identifier No. AE2-045 to be effective 11/25/2024.

Filed Date: 12/26/24.

Accession Number: 20241226-5100.

Comment Date: 5 p.m. ET 1/16/25.

Docket Numbers: ER25-809-000.

Applicants: Walton County Power, LLC.

Description: Tariff Amendment: Walton County Power, LLC MBR Cancellation to be effective 12/27/2024.

Filed Date: 12/26/24.

Accession Number: 20241226-5154.

Comment Date: 5 p.m. ET 1/16/25.

Docket Numbers: ER25-810-000.

Applicants: PJM Interconnection, L.L.C.

Description: § 205(d) Rate Filing: Original GIA, SA No. 7451; Project Identifier No. AG1-517 to be effective 12/2/2024.

Filed Date: 12/26/24.

Accession Number: 20241226-5235.

Comment Date: 5 p.m. ET 1/16/25.

Docket Numbers: ER25-811-000.

Applicants: Uniper Global Commodities North America LLC.

Description: Tariff Amendment: Cancellation entire tariff to be effective 12/27/2024.

Filed Date: 12/26/24.

Accession Number: 20241226-5325.

Comment Date: 5 p.m. ET 1/16/25.

Docket Numbers: ER25-812-000.

Applicants: NorthWestern Corporation.

Description: § 205(d) Rate Filing: SA#767 Eleventh Revised—Basin NITSA to be effective 2/27/2025.

Filed Date: 12/26/24.

Accession Number: 20241226-5329.

Comment Date: 5 p.m. ET 1/16/25.

Docket Numbers: ER25-813-000.

Applicants: Basin Electric Power Cooperative.

Description: Initial rate filing: Submission of Service Agreement No. 121 to be effective 3/1/2025.

Filed Date: 12/26/24.

Accession Number: 20241226-5341.

Comment Date: 5 p.m. ET 1/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 26, 2024.
Carlos D. Clay,
Acting Deputy Secretary.

[FR Doc. 2024-31476 Filed 12-31-24; 8:45 am]

BILLING CODE 6717-01-P